NATIONAL SCIENCE FOUNDATION

Notice of Intent To Seek Approval To Revise an Information Collection

AGENCY: National Science Foundation.

ACTION: Submission for OMB Review; Comment Request Under the Paperwork Reduction Act of 1995, Pub. L. 104-13 (44 U.S.C. 3501 et seq.), and as part of its continuing effort to reduce paperwork and respondent burden, the National Science Foundation (NSF) is inviting the general public and other Federal agencies to comment on this proposed continuing information collection. This is the second notice for public comment; the first was published in the Federal Register at 71 FR 38428 and one comment that had no significant suggestions for altering the data plans was received. Therefore, NSF is forwarding the proposed submission to the Office of Management and Budget (OMB) for clearance simultaneously with the publication of this second notice.

DATES: Comments regarding these information collections are best assured of having their full effect if received by OMB within 30 days of publication in the Federal Register.

ADDRESSES: Written comments regarding (a) whether the collection of information is necessary for the proper performance of the functions of NSF, including whether the information will have practical utility; (b) the accuracy of NSF's estimate of burden including the validity of the methodology and assumptions used; (c) ways to enhance the quality, utility and clarity of the information to be collected; or (d) ways to minimize the burden of the collection of information on those who are to respond, including through the use of appropriate automated, electronic, mechanical, or other technological collection techniques or other forms of information technology should be addressed to: Office of Information and Regulatory Affairs of OMB, Attention: Desk Officer for National Science Foundation, 725—17th Street, NW., Room 10235, Washington, DC 20503, and to Suzanne H. Plimpton, Reports Clearance Officer, National Science Foundation, 4201 Wilson Boulevard, Suite 295, Arlington, Virginia 22230 or send email to splimpto@nsf.gov. Copies of the submission may be obtained by calling (703) 292-7556.

FOR FURTHER INFORMATION CONTACT: Suzanne H. Plimpton, NSF Reports Clearance Officer at (703) 292-7556 or send e-mail to splimpto@nsf.gov.

An agency may not conduct or sponsor a collection of information unless the collection of information displays a currently valid OMB control number and the agency informs potential persons who are to respond to the collection of information that such persons are not required to respond to the collection of information unless it displays a currently valid OMB control number.

SUPPLEMENTARY INFORMATION: Title of Collection: Evaluation of the Research Experiences for Undergraduates (REU) Program in the NSF Directorate for Engineering (ENG).

OMB Number: 3145-0121.

Type of Request: Intent to seek approval to renew an information collection for three years.

Proposed Project: NSF has supported the REU Program since 1987. The Program was evaluated after three and five years and as part of a larger study of all NSF undergraduate research opportunities (URO) in 2003. The proposed project will enable NSF's Directorate for Engineering (ENG) to learn about the activities, outcomes, and impacts of the REU awards made by that Directorate, as well as lessons learned to improve the results of future REU awards. Two types of REU awards will be studied, REU sites and REU supplements. REU Site awards fund groups of undergraduates to work with faculty members at an institution. Half of the undergraduates in an REU site must come from other institutions. ENG also makes REU Supplement awards to NSF-funded Engineering Research Centers and to other NSF-funded researchers for comparable involvement of undergraduates.

The proposed study will be similar to the 2003 URO study. It will focus on undergraduate ENG REU participants and the faculty members who are responsible for the ENG REU awards during summer 2006 through spring 2007, and will examine in detail for the first time the activities, outcomes, and impacts of REU awards made in a single NSF directorate—ENG. The study will evaluate the longer-term effects of REU experiences with a follow-up survey of the students approximately two years later. The REU program officers in NSF's Division of Engineering Education and Centers (EEC) particularly want to learn in depth about the EEC REU Site and ERC REU Supplement awards from former REU students and awardees, any differences between the Sites and ERC Supplements, and lessons learned for subsequent proposal review and advising prospective PIs. Information will also be used for ENG Program reporting requirements. The study will examine (1) the role of the REU program in aiding participating undergraduates in a decision to pursue graduate education or careers in engineering; and (2) the relationship between how REU activities are structured and managed and participants' subsequent education and career decisions and actions.

The survey data collection will be done on the World Wide Web.

Estimate of Burden: Public reporting burden for this collection of information is estimated to average 30 minutes per response.

Respondents: Individuals.

Estimated Number of Responses per Form: 5,006.

Estimated Total Annual Burden on Respondents: 2,400 hours (413 respondents at 15 minutes per response and 4,593 respondents at 30 minutes per response).

Frequency of Response: One time for faculty, two times for students.

Dated: December 21, 2006.
Suzanne H. Plimpton,
Reports Clearance Officer, National Science Foundation.

[FR Doc. E6-22191 Filed 12-27-06; 8:45 am]

BILLING CODE 7555-01-P